DEPARTMENT OF HEALTH AND HUMAN SERVICES

Substance Abuse and Mental Health Services Administration

Solicitation for Public Comments on Questions From the Task Force on Maternal Mental Health; Correction

AGENCY: Office on Women's Health, Office of the Assistant Secretary for Health, Office of the Secretary; Substance Abuse and Mental Health Services Administration (SAMHSA), U.S. Department of Health and Human Services (HHS)

ACTION: Notice of correction for request for information.

SUMMARY: The Substance Abuse and Mental Health Services Administration published a document in the Federal Register of January 9, 2024, announcing the solicitation for public comments on questions from the Task Force on Maternal Health. The document contained incorrect date in the DATES section.

FOR FURTHER INFORMATION CONTACT: Valerie Kolick, Designated Federal Officer, Advisory Committee for Women's Services, U.S. Department of Health and Human Services, Substance Abuse and Mental Health Services Administration, 5600 Fishers Lane, Suite 18E01, Rockville, MD 20857. Phone: 240-276-1738 or Email: valerie.kolick@samhsa.hhs.gov

SUPPLEMENTARY INFORMATION: Correction, from FR Doc. 2023-28890, Vol.89, No.6, pages 1110 and 1111.

In the Federal Register of January 9, 2024, in FR Doc. 2023-28890, on page 1110, in the second column, correct the DATES caption to read:

DATES: Electronic or written/paper comments will be accepted through midnight eastern standard time (EST), Thursday, February 8, 2024.

Dated: January 16, 2024.
Carlos Castillo,
Committee Management Officer.

[FR Doc. 2024-01010 Filed 1-18-24; 8:45 am]

BILLING CODE 4162-20-P